CORPORATION FOR NATIONAL AND COMMUNITY SERVICE

Proposed Information Collection; Comment Request

AGENCY: Corporation for National and Community Service.

ACTION: Notice.

SUMMARY: The Corporation for National and Community Service (the Corporation), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed renewal of Day of Service Project Promotion Tool. Anyone organizing a volunteer event will be able to register their projects, including: national service projects, corporations, volunteer organizations and individuals. The Corporation wants to help promote activities across the country and also to be able to assess impact of the Corporation's initiatives. Information provided is purely voluntary and will not be used for any grant or funding support.

Copies of the information collection request can be obtained by contacting the office listed in the addresses section of this notice.

DATES: Written comments must be submitted to the individual and office listed in the ADDRESSES section by December 27, 2011.

ADDRESSES: You may submit comments, identified by the title of the information collection activity, by any of the following methods:

(1) By mail sent to: Corporation for National and Community Service, Office of External Affairs; Attention: David Premo, Program Support Specialist, Room 10302-C; 1201 New York Avenue, NW., Washington, DC, 20525.

(2) By hand delivery or by courier to the Corporation's mailroom at Room 8100 at the mail address given in paragraph (1) above, between 9 a.m. and 4 p.m. Eastern Time, Monday through Friday, except Federal holidays.

(3) By fax to: (202) 606-3460 Attention: David Premo, Program Support Specialist.

(4) Electronically through www.regulations.gov. Individuals who use a telecommunications device for the deaf (TTY-TDD) may call 1-800-833-3722 between 8 a.m. and 8 p.m. Eastern Time, Monday through Friday.

FOR FURTHER INFORMATION CONTACT: David Premo, (202) 606-6717, or by email at dpremo@cns.gov.

SUPPLEMENTARY INFORMATION:

The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The Corporation seeks to support volunteer projects through service initiatives including Martin Luther King Jr. Day of Service, September 11th Day of Service and Remembrance, United We Serve, Let's Read-Let's Move, AmeriCorps Week, Senior Corps Week and other initiatives. To help promote activities and to ascertain impact of our initiatives, it is important to be aware of activities and projects taking place. Anyone participating in, or organizing a project will be encouraged to register their project on our website. The information will be collected electronically and stored securely on our computer network.

Current Action

The Corporation seeks to renew the current information collection request. In order to provide more useful information we have added some questions and removed others.

The information collection will otherwise be used in the same manner as the existing application. The Corporation also seeks to continue using the current application until the revised application is approved by OMB. The current application is due to expire on December 30, 2012.

Type of Review: Revision and renewal.

Agency: Corporation for National and Community Service.

Title: Day of Service Project Promotion Tool.

OMB Number: 3045-0122.

Agency Number: None.

Affected Public: Any person or group organizing a service project in conjunction with a Corporation initiative.

Total Respondents: 100,000.

Frequency: 6 times annually.

Average Time per Response: Averages 10 minutes.

Estimated Total Burden Hours: 66,667.

Total Burden Cost (capital/startup): None.

Total Burden Cost (operating/maintenance): None.

Comments submitted in response to this notice will be summarized and/or included in the request for Office of Management and Budget approval of the information collection request; they will also become a matter of public record.

Dated: October 19, 2011.
Marco A. Davis,
Director of Public Engagement.

[FR Doc. 2011-27594 Filed 10-24-11; 8:45 am]

BILLING CODE 6050-$$-P